DEPARTMENT OF STATE

[Public Notice: 11204]

Certification Related to Foreign Military Financing for Colombia Under Section 7045(b)(2)(b) of the Department of State, Foreign Operations, and Related Programs Appropriations Act, 2020

Pursuant to section 7045(b)(2)(B) of the Department of State, Foreign Operations, and Related Programs Appropriations Act, 2020 (Div. G, Pub. L. 116-94), I hereby certify that:

(i) The Special Jurisdiction for Peace and other judicial authorities are taking effective steps to hold accountable perpetrators of gross violations of human rights in a manner consistent with international law, including for command responsibility, and sentence them to deprivation of liberty;

(ii) the Government of Colombia is taking effective steps to prevent attacks against human-rights defenders and other civil-society activists, trade unionists, and journalists, and judicial authorities are prosecuting those responsible for such attacks; and

(iii) senior military officers responsible for ordering, committing, and covering up cases of false positives are being held accountable, including by removal from active duty, if found guilty through criminal or disciplinary proceedings.

This Certification shall be published in the Federal Register and shall be transmitted, along with the accompanying Memorandum of Justification, to Congress.

Dated August 18, 2020.
Stephen E. Biegun,
Deputy Secretary of State.

[FR Doc. 2020-20210 Filed 9-11-20; 8:45 am]

BILLING CODE 4710-29-P